NATIONAL CAPITAL PLANNING COMMISSION

Senior Executive Service Performance Board Members

AGENCY: National Capital Planning Commission.

ACTION: Notice of Members of Senior Executive Service Performance Review Board.

SUMMARY: Section 4314(c) of Title 5, U.S.C. (as amended by the Civil Service Reform Act of 1978) requires each agency to establish, in accordance with regulations prescribed by the Office of Personnel Management, one or more Performance Review Boards (PRB) to review, evaluate, and make a final recommendation on performance appraisals assigned to individual members of the agency's Senior Executive Service (SES). The PRB established for the National Capital Planning Commission also makes recommendations to the agency head regarding SES performance awards, ranks and bonuses, and recertification. Section 4314 (c)(4) requires that notice of appointment of Performance Review Board Members be published in the Federal Register. The following persons have been appointed to serve as members of the Performance Review Board for the National Capital Planning Commission: Patricia E. Gallagher, Stephen E. Crable, Patricia Cornwell-Johnson, Solly Thomas, and Gloria J. Joseph, from May 21, 2001 to May 21, 2003.

FOR FUTHER INFORMATION CONTACT: Connie M. Harshaw, Assistant Executive Director (Management), National Capital Planning Commission, 401 9th Street, NW., Suite 500, Washington, DC 20576 Telephone (202) 482-7200.

Dated: April 4, 2001.
Ash Jain,
General Counsel and Congressional Liaison, National Capital Planning Commission.

[FR Doc. 01-9891 Filed 4-20-01; 8:45 am]

BILLING CODE 7520-01-P